DEPARTMENT OF VETERANS AFFAIRS

Enhanced-Use Lease of Property at the Department of Veterans Affairs Medical Center, Saint Cloud, MN

AGENCY: Department of Veterans Affairs.

ACTION: Notice of intent to enter into an enhance-use lease.

SUMMARY: The Secretary of the Department of Veterans Affairs (VA) intends to outlease four acres of land at the Department of Veterans Affairs Medical Center, in Saint Cloud, Minnesota, under an enhanced-use lease. The Department intends to enter into a 50-year lease of real property with a selected lessee/developer who would be responsible for all costs and risks associated with the design, construction, operation and maintenance of an affordable housing facility not less than 60-units and a caretaker's unit for veterans and non-veterans.

FOR FURTHER INFORMATION CONTACT: Vanessa Chambers, Capital Asset Management and Planning Service (182C), Department of Veterans Affairs, 810 Vermont Avenue, NW., Washington, DC 20420, (202) 565-6554.

SUPPLEMENTARY INFORMATION: 38 U.S.C. Section 8161, et seq. specifically provides that the Secretary may enter into an enhanced-use lease if he determines that at least part of the use of the property under the lease will be to provide appropriate space for an activity contributing to the mission of the Department; the lease will not be inconsistent with and will not adversely affect the mission of the Department; and the lease will enhance the property or result in improved services to veterans. This project meets these requirements.

Approved: March 10, 2004.
Anthony J. Principi,
Secretary of Veterans Affairs.

[FR Doc. 04-6084 Filed 3-17-04; 8:45 am]

BILLING CODE 8320-01-P